DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 11, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on January 05, 2021.
Donald P. Burger,
Chief, General Approvals and Permits Branch.

Application | Applicant | Regulation(s) affected | Nature of the special permits thereof
7573-M | Department of Defense (Military Surface Deployment & Distribution Command) | 172.1, 175.1 | To modify the special permit to update references to the new AFMAN manual.
9232-M | Department of Defense (Military Surface Deployment & Distribution Command) |  | To modify the special permit to update references to the new AFMAN manual.
9998-M | Accumulators, Inc | 173.302(a) | To modify the special permit to add three additional bladder designs.
12102-M | Haz Mat Services, Incorporated | 173.56(i) | To modify the special permit to authorize additional Class 3 and Division 4.1 explosives.
16146-M | Department of Defense (Military Surface Deployment & Distribution Command) | 171.22(e), 172.101(j) | To modify the permit to reference update references to the 24 series of the Air Force regulations.
21056-N | Cummins Inc | 173.185(a)(1) | To authorize the transportation in commerce of prototype lithium batteries by cargo-only aircraft.
21057-N | Spaceflight, Inc | 173.185(a)(1) | To authorize authorizes the transportation in commerce of low production lithium ion batteries contained in equipment (spacecraft).
21087-N | Istanbul Genlesme Ve Hidrofor Tanklari Makine Sanayi Ve Ticaret Anonim Sirketi | 173.306(g)(1) | To authorize the manufacture, mark, sale and use of non-DOT specification water pump system tanks charged with a compressed gas that vary from the required size specified in 173.306(g).
21106-N | General Motors LLC | 173.185(b)(3)(ii) | To authorize the transportation in commerce of lithium ion cells in Large Packaging by highway and rail.
21110-N | Norfolk Southern Railway Company | 174.24, 174.26 | To authorize the use of electronic means to maintain and communicate on-board train consist information in lieu of paper documentation when hazardous materials are transported by rail.
21128-N | Department of Defense (Military Surface Deployment & Distribution Command) | 180.207(c) | To authorize a one-time 5-year extension to the 10-year requalification date identified on FIBA ISO trailers with UN11120 cylinders.
21138-M | LG Energy Solution | 173.185(f)(3) | To modify the special permit to remove the requirement of a photocopy of the SOC of the contents be on the outside of the package.
21146-N | APM Terminals Pacific LLC | 172.704(c)(2) | To authorize hazmat employers, who employ maritime transportation workers and are unable to provide recurrent training consistent with the HMR due to restrictions resulting from the COVID-19 public health emergency, to delay the recurrent training for the applicable hazmat employees.
21151-N | Toyota Gazoo Racing Europe Gmbh | 172.101(j) | To authorize the transportation in commerce of prototype lithium batteries in support of the Toyota Racing Team at the World Endurance Championship.
21158-N | Ups Supply Chain Solutions, Inc | 173.217(d) | To authorize the transportation in commerce of dry ice by air in accordance with 173.217(d) when the dry ice has previously been used to refrigerate diagnostic or treatment specimens.
21166-N | Federal Cartridge Company | 173.56(b) | To authorize the transportation in commerce of six primer caps that were previously approved with lead styphnate as the primer explosive to be transported with a proprietary explosive formulation that replaces the lead styphnate.
SPECIAL PERMITS DATA—Denied
21086-N | Carmi Flavor and Fragrance Company, Inc | 173.120(a) | To authorize the transportation in commerce of flammable liquids below their flashpoint without being regulated as hazardous materials.
21150-N | Zeco, Inc. | 172.203(a), 172.302(c), 173.225(h) | To authorize the transportation in commerce of Division 5.2 materials in non-authorized bulk packagings.
SPECIAL PERMITS DATA—Withdrawn
21089-N | Procyon-alpha Squared, Inc. | 172.200, 172.300, 172.600, 172.400 | To authorize the manufacture, mark, sale, and use of packaging for use with end-of-life/waste lithium ion cells, batteries and lithium ion cells and batteries contained in equipment shipped for recycling or disposal.

[FR Doc. 2021-00402 Filed 1-11-21; 8:45 am]

BILLING CODE P